INTERNATIONAL TRADE COMMISSION

Notice of Opportunity To Comment on Draft Questionnaires To Be Issued in Connection With Investigation Under Section 202 of the Trade Act of 1974 on Certain Steel Products

AGENCY: United States International Trade Commission.

ACTION: Opportunity to comment on draft questionnaires.

SUMMARY: On June 22, 2001, the Commission received a request from the United States Trade Representative to institute an investigation under section 202 of the Trade Act of 1974 (19 U.S.C. 2252) to determine whether certain steel products are being imported into the United States in such increased quantities as to be a substantial cause of serious injury, or the threat of serious injury, to the domestic industries producing like or directly competitive products.

Although the Commission has not formally instituted the investigation, it is in the process of finalizing questionnaires to be sent to domestic producers, importers, purchasers, and foreign producers once the investigation is instituted. On June 28, 2001, the Commission posted on its web site, for public comment, draft questionnaires to be issued in connection with the investigation. The web site can be accessed at http://www.usitc.gov.

Because time is of the essence, comments must be received in writing not later than 10 a.m. Monday, July 2, 2001. No requests for late filing will be accepted. Comments (an original and 14 copies) must be filed with the Secretary to the Commission, 500 E Street SW., Washington, DC 20436. Neither facsimile copies nor electronic filings will be accepted. There is no service requirement. Comments will be available for public inspection in the Office of the Secretary and electronically through the Commission's EDIS system.

FOR FURTHER INFORMATION: Contact Vera Libeau, Office of Investigations, 202-205-3176. Hearing-impaired persons can obtain information on this matter by contacting the Commission's TDD terminal on 202-205-1810. Persons with mobility impairments who will need special assistance in gaining access to the Commission should contact the Office of the Secretary at 202-205-2000.

Issued: June 26, 2001.
By order of the Commission.
Donna R. Koehnke,
Secretary.

[FR Doc. 01-16469 Filed 6-27-01; 8:45 am]

BILLING CODE 7020-02-P